DEPARTMENT OF TRANSPORTATION

Federal Aviation Administration

Proposed Technical Standard Order (TSO)-C166, Extended Squitter Automatic Dependent Surveillance—Broadcast (ADS-B) and Traffic Information Service—Broadcast (TIS-B) Equipment Operating on the Radio Frequency of 1090 Megahertz (MHz).

AGENCY: Federal Aviation Administration (DOT).

ACTION: Notice of availability and requests for public comment.

SUMMARY: This notice announces the availability of and requests comments on a proposed Technical Standard Order (TSO)-C166, Extended Squitter Automatic Dependent Surveillance—Broadcast (ADS-B) and Traffic Information Service—Broadcast (TIS-B) Equipment Operating on the Radio Frequency of 1090 Megahertz (MHz). This proposed TSO tells persons seeking a TSO authorization or letter of design approval what minimum performance standards (MPS) their Extended Squitter ADS-B and TIS-B equipment must meet to be identified with the applicable TSO marking.

DATES: Comments must identify the TSO file number and be received on or before September 15, 2003.

ADDRESSES: Send all comments on the proposed technical standard order to: Federal Aviation Administration (FAA), Aircraft Certification Service, Aircraft Engineering Division, Avionic Systems Branch, AIR-130, File No. TSO-C166, 800 Independence Avenue, SW., Washington, DC 20591. ATTN: Mr. Robert Duffer. Or deliver comments to: Federal Aviation Administration, Room 815, 800 Independence Avenue, SW., Washington, DC 20591.

FOR FURTHER INFORMATION CONTACT: Mr. Robert Duffer, Federal Aviation Administration, Aircraft Certification Service, Aircraft Engineering Division, Avionic Systems Branch, AIR-120, 800 Independence Avenue, SW., Washington, DC 20591. Telephone (202) 385-4557, FAX: (202) 385-4651.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Building, 800 Independence Avenue, SW., Washington, DC 20591, weekdays except Federal holidays, between 8:30 a.m. and 4:30 p.m. All communications received on or before the closing date for comments specified above will be considered by the Director of the Aircraft Certification Service before issuing the final TSO.

Background

This proposed TSO prescribes the MPS for airborne equipment to support Automatic Dependent Surveillance—Broadcast (ADS-B) using Extended Squitter equipment operating on the frequency of 1090 MHz. ADS-B is a system by which aircraft and certain equipped surface vehicles can share position, velocity, and other information with one another, and with ground-based facilities such as air traffic services via radio broadcast techniques. Extended Squitter ADS-B will also support the reception of Traffic Information Service—Broadcast (TIS-B) messages. Two major classes of 1090 MHz Extended Squitter ADS-B equipment are supported by this proposed TSO; Class A() equipment which incorporates both a broadcast and received subsystem, and Class B() equipment which supports broadcast only.

How to Obtain Copies

A copy of the proposed TSO-C166 may be obtained via the information contained in section titled “For Further Information Contact”, or from the FAA Internet Web site at http://www.faa.gov/certification/aircraft/tsoa.htm.

Copies of RTCA Document No's. RTCA/DO-160D, “Environmental Conditions and Test Procedures for Airborne Equipment,” dated July 29, 1997; RTCA/DO-178B, “Software Considerations in Airborne Systems and Equipment Certification,” dated December 1, 1992; and RTCA/DO-260A, “Minimum Operational Performance Standards for 1090 MHz Extended Squitter Automatic Dependent Surveillance—Broadcast (ADS-B) and Traffic Information Services—Broadcast (TIS-B),” dated April 10, 2003, may be purchased from RTCA, Inc., 1828 L Street, NW., Suite 815, Washington, DC 20036. Copies can also be obtained through the RTCA Internet Web site at http://www.rtca.org/.

Issued in Washington, DC, on August 11, 2003.
Susan J. M. Cabler,
Deputy Manager, Aircraft Engineering Division, Aircraft Certification Service.

[FR Doc. 03-20773 Filed 8-13-03; 8:45 am]

BILLING CODE 4910-13-M